MEDICARE PAYMENT ADVISORY COMMISSION

Commission Meeting

AGENCY: Medicare Payment Advisory Commission.

ACTION: Notice of meeting.

SUMMARY: The Commission will hold its next public meeting on Thursday, April 12, 2001, and Friday, April 13, 2001, at the Ronald Reagan Building, International Trade Center, 1300 Pennsylvania Avenue, NW., Washington, DC. The meeting is tentatively scheduled to begin at 10 a.m. on April 12, and at 9 a.m. on April 13.

Topics for discussion include: Medicare in rural areas; quality of care in rural areas; payment provisions for inpatient hospital care in rural areas; home health services in rural areas; Medicare payments for nursing and allied health programs; access to care in rural areas; assessing outpatient prospective payment system for quality and access; payment for hospital outpatient services in rural areas; Medicare+Choice in rural America; payments to skilled nursing facilities in Alaska and Hawaii; and payment update for physician services.

Agendas will be mailed on April 3, 2001. The final agenda will be available on the Commission's website (www.MedPAC.gov)

ADDRESSES: MedPAC's address is 1730 K Street, NW., Suite 800, Washington, DC 20006. The telephone number is (202) 653-7220.

FOR FURTHER INFORMATION CONTACT: Diane Ellison, Office Manager, (202) 653-7220.

Murray N. Ross,
Executive Director.

[FR Doc. 01-8205 Filed 4-3-01; 8:45 am]

BILLING CODE 6820-BW-M